DEPARTMENT OF ENERGY

Federal Energy Regulatory Commission

Combined Notice of Filings #1

Take notice that the Commission received the following electric corporate filings:

Docket Numbers: EC15-177-000.

Applicants: DG North Carolina Solar Holding, LLC.

Description: Section 203 Application of DG North Carolina Solar Holding, LLC.

Filed Date: 7/28/15.

Accession Number: 20150728-5214.

Comments Due: 5 p.m. ET 8/18/15.

Take notice that the Commission received the following electric rate filings:

Docket Numbers: ER15-1471-002.

Applicants: Blue Sky West, LLC.

Description: Notice of Change in Status and Request for Confidential Treatment of Blue Sky West, LLC.

Filed Date: 7/29/15.

Accession Number: 20150729-5051.

Comments Due: 5 p.m. ET 8/19/15.

Docket Numbers: ER15-2294-000.

Applicants: Pacific Gas and Electric Company.

Description: Section 205(d) Rate Filing: Transmission Owner Rate Case 2016 (TO17) to be effective 10/1/2015.

Filed Date: 7/29/15.

Accession Number: 20150729-5000.

Comments Due: 5 p.m. ET 8/19/15.

Docket Numbers: ER15-2295-000.

Applicants: Southwest Power Pool, Inc.

Description: Petition of Southwest Power Pool, Inc. For Tariff Waiver.

Filed Date: 7/28/15.

Accession Number: 20150728-5198.

Comments Due: 5 p.m. ET 8/18/15.

Take notice that the Commission received the following land acquisition reports:

Docket Numbers: LA15-2-000.

Applicants: MidAmerican Energy Company.

Description: Quarterly Land Acquisition Report of the MidAmerican Energy Companies.

Filed Date: 7/29/15.

Accession Number: 20150729-5046.

Comments Due: 5 p.m. ET 8/19/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 29, 2015.
Nathaniel J. Davis, Sr.,
Deputy Secretary.

[FR Doc. 2015-19046 Filed 8-3-15; 8:45 am]

BILLING CODE 6717-01-P